DEPARTMENT OF COMMERCE

National Oceanic and Atmospheric Administration

[I.D. 032905B]

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on May 3 and 4, 2005. The Council will convene on Tuesday, May 3, 2005, from 9 a.m. to 5 p.m., and the Administrative Committee will meet from 5:15 p.m. to 6 p.m. The Council will reconvene on Wednesday, May 4, 2005, from 8:30 a.m. to 5 p.m., approximately.

ADDRESSES: The meetings will be held at Frenchman's Reef and Morning Star Marriott Beach Resort, #5 Estate Bakkeroe, St. Thomas, USVI.

FOR FURTHER INFORMATION CONTACT: Caribbean Fishery Management Council, 268 Muńoz Rivera Avenue, Suite 1108, San Juan, Puerto Rico 00918-1920, telephone (787) 766-5926.

SUPPLEMENTARY INFORMATION: The Council will hold its 118th regular public meeting to discuss the items contained in the following agenda:

May 3, 2005

9 a.m.-5 p.m.

Call to Order

Adoption of Agenda

Consideration of 117th Council Meeting Verbatim Minutes

Executive Director's Report

R/V Nancy Foster USVI Survey Update

Proposed rule for Acropora palmata/Acropora cervicornis

SFA Document-Final Action

CFMC Research Needs

5:15 p.m.- 6 p.m.

Administrative Committee Meeting

-AP/SSC/HAP Membership

-Budget 2002, 2003, 2004/05

-Pending travel and Contracts

-Other Business

May 4, 2005

8:30 a.m.-5 p.m.

HMS Presentation-Russel Dunn

Enforcement Reports

-Puerto Rico

-US Virgin Islands

-NOAA

-US Coast Guard

Administrative Committee Recommendations from May 3, 2005

Meetings attended by Council members and staff

Other Business

Next Council Meeting

The meetings are open to the public, and will be conducted in English. Fishers and other interested persons are invited to attend and participate with oral or written statements regarding agenda issues. Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. For more information or request for sign language interpretation and/other auxiliary aids, please contact Mr. Miguel A. Rolón, Executive Director, Caribbean Fishery Management Council, 268 Muńoz Rivera Avenue, Suite 1108, San Juan, Puerto Rico, 00918-2577, telephone (787) 766-5926, at least five days prior to the meeting date.

Dated: March 30, 2005.
Emily Menashes,
Acting Director, Office of Sustainable Fisheries, National Marine Fisheries Service.

[FR Doc. E5-1480 Filed 4-1-05; 8:45 am]

BILLING CODE 3510-22-S